DEPARTMENT OF TRANSPORTATION

Federal Aviation Administration

[Docket No. FAA-2021-0861]

Agency Information Collection Activities: Requests for Comments; Clearance of Renewed Approval of Information Collection: Fractional Aircraft Ownership Programs

AGENCY: Federal Aviation Administration (FAA), DOT.

ACTION: Notice and request for comments.

SUMMARY: In accordance with the Paperwork Reduction Act of 1995, FAA invites public comments about our intention to request Office of Management and Budget (OMB) approval to renew an information collection. Fractional Ownership is a program that offers increased flexibility in aircraft ownership. Owners purchase shares of an aircraft and agree to share their aircraft with others having an ownership share in that same aircraft. Owners agree to put their aircraft into a “pool” of other shared aircraft and to lease their aircraft to another owner in that pool. This collection is necessary to ensure compliance with relevant safety regulations. The Federal Register Notice with a 60-day comment period soliciting comments on the following collection of information was published on September 21, 2021.

DATES: Written comments should be submitted by March 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John H. Attebury by email at: John.H.Attebury@faa.gov; phone: (281) 443-5862.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0684.

Title: Fractional Aircraft Ownership Programs.

Form Numbers: There are no FAA forms associated with this collection.

Type of Review: This is a renewal of an existing information collection.

Background: The Federal Register Notice with a 60-day comment period soliciting comments on the following collection of information was published on September 21, 2021 (86 FR 52544). Each fractional ownership program manager and each fractional owner must comply with the requirements of 14 CFR part 91, subpart K. Information is used to determine if these entities are operating in accordance with the minimum safety standards of these regulations. The FAA will use the information it reviews and collects to evaluate the effectiveness of the program and make improvements as needed, and ensure compliance with and adherence to regulations.

Respondents: Ten fractional ownership operators, with an estimated 5,570 fractional owners and 774 aircraft.

Frequency: On occasion.

Estimated Average Burden per Response: 0.9 hours.

Estimated Total Annual Burden: 8,869 hours.

Issued in Washington, DC on February 4, 2022.
Dwayne C. Morris,
Project Manager, Flight Standards Service, General Aviation and Commercial Division.

[FR Doc. 2022-02687 Filed 2-8-22; 8:45 am]

BILLING CODE 4910-13-P